DEPARTMENT OF HOMELAND SECURITY

Transportation Security Administration

49 CFR Chapter XII

[Docket No. TSA-2022-0001]

RIN 1652-AA74

Enhancing Surface Cyber Risk Management

AGENCY: Transportation Security Administration, DHS.

ACTION: Extension of comment period.

SUMMARY: On November 30, 2022, the Transportation Security Administration (TSA) published an advance notice of proposed rulemaking (ANPRM) seeking input regarding ways to strengthen cybersecurity and resiliency in the pipeline and rail (including freight, passenger, and transit rail) sectors. The ANPRM solicited comment on specific questions, which would assist TSA in better understanding how the pipeline and rail sectors implement cyber risk management in their operations, support TSA in achieving objectives related to the enhancement of pipeline and rail cybersecurity, and help TSA develop a comprehensive and forward-looking approach to cybersecurity requirements. Through this document, TSA is extending the comment period by 15 calendar days to provide additional time for the public to provide comments.

DATES: The comment period for the ANPRM published at 87 FR 73527 (November 30, 2022) is extended by 15 calendar days, from January 17, 2023, to February 1, 2023.

ADDRESSES: You may submit comments, identified by the TSA docket number to this rulemaking, to the Federal Docket Management System (FDMS), a government-wide, electronic docket management system. To avoid duplication, please use only one of the following methods:

• Electronic Federal eRulemaking Portal: https://www.regulations.gov. Follow the online instructions for submitting comments.

• Mail: Docket Management Facility (M-30), U.S. Department of Transportation, 1200 New Jersey Avenue SE, West Building Ground Floor, Room W12-140, Washington, DC 20590-0001. The Department of Transportation (DOT), which maintains and processes TSA's official regulatory dockets, will scan the submission and post it to FDMS. Comments must be postmarked by the date indicated above.

• Fax: (202) 493-2251.

See the SUPPLEMENTARY INFORMATION section for format and other information about comment submissions.

FOR FURTHER INFORMATION CONTACT: For program questions: Victor Parker, Surface Division, Policy, Plans, and Engagement, TSA-28, Transportation Security Administration, 6595 Springfield Center Drive, Springfield, VA 20598-6002; telephone (571) 227-1039; email: VettingPolicy@tsa.dhs.gov. For legal questions: David Kasminoff (TSA, Senior Counsel, Regulations and Security Standards) at telephone (571) 227-3583, or email to VettingPolicy@tsa.dhs.gov.

SUPPLEMENTARY INFORMATION:

Comments Invited

TSA invites interested persons to participate in this ANPRM by submitting written comments, including relevant data. We also invite comments relating to the economic, environmental, energy, or federalism impacts that might result from a rulemaking action. See ADDRESSES section above for information on where to submit comments.

With each comment, please identify the docket number at the beginning of your comments. You may submit comments and material electronically, in person, by mail, or fax as provided under ADDRESSES, but please submit your comments and material by only one means. If you submit comments by mail or in person, submit them in an unbound format, no larger than 8.5 by 11 inches, suitable for copying and electronic filing.

If you would like TSA to acknowledge receipt of comments submitted by mail, include with your comments a self-addressed, stamped postcard on which the docket number appears. TSA will stamp the date on the postcard and mail it to you.

All comments, except those that include confidential or sensitive security information (SSI) ¹ will be posted to https://www.regulations.gov, and will include any personal information you have provided. Should you wish your personally identifiable information redacted prior to filing in the docket, please clearly indicate this request in your submission to TSA. TSA will consider all comments that are in the docket on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Certain Sensitive Information Submitted in Public Comments

Do not submit comments that include trade secrets, confidential commercial or financial information, SSI, or protected critical infrastructure information to the public regulatory docket. Comments containing this type of information should be submitted separately from other comments, appropriately marked as containing such information, and submitted by mail to the address listed in FOR FURTHER INFORMATION CONTACT section. TSA will take the following actions for all submissions containing SSI:

• TSA will not place comments containing SSI in the public docket and will handle them in accordance with applicable safeguards and restrictions on access.

• TSA will hold documents containing SSI, confidential business information, or trade secrets in a separate file to which the public does not have access, and place a note in the public docket explaining that commenters have submitted such documents.

• TSA may include a redacted version of the comment in the public docket.

• TSA will treat requests to examine or copy information that is not in the public docket as any other request under the Freedom of Information Act (5 U.S.C. 552) and the Department of Homeland Security (DHS) Freedom of Information Act regulation found in 6 CFR part 5.

Reviewing Comments in the Docket

Please be aware that anyone is able to search the electronic form of all comments in any of our dockets by the name of the individual, association, business entity, labor union, etc., who submitted the comment. For more about privacy and the docket, review the Privacy and Security Notice for the FDMS at https://www.regulations.gov/privacy-notice, as well as the System of Records Notice DOT/ALL 14—Federal Docket Management System (73 FR 3316, January 17, 2008) and the System of Records Notice DHS/ALL 044—eRulemaking (85 FR 14226, March 11, 2020).

You may review TSA's electronic public docket at http://www.regulations.gov. In addition, DOT's Docket Management Facility provides a physical facility, staff, equipment, and assistance to the public. To obtain assistance or to review comments in TSA's public docket, you may visit this facility between 9 a.m. and 5 p.m., Monday through Friday, excluding legal holidays, or call (202) 366-9826. This DOT facility is located in the West Building Ground Floor, Room W12-140 at 1200 New Jersey Avenue SE, Washington, DC 20590.

Availability of Rulemaking Document

You can find an electronic copy of rulemaking documents relevant to this action by searching the electronic FDMS web page at https://www.regulations.gov or at https://www.federalregister.gov.

In addition, copies are available by writing or calling the individual in the FOR FURTHER INFORMATION CONTACT section. Make sure to identify the docket number of this ANPRM.

Extension of Comment Period

On November 30, 2022 (87 FR 73527), TSA published an ANPRM seeking comment on ways to strengthen cybersecurity and resiliency in the pipeline and rail (including freight, passenger, and transit rail) sectors. The ANPRM provides a 45-day comment period that would have closed on January 17, 2023. In a joint letter dated December 5, 2022, the American Gas Association, Interstate Natural Gas Association, American Fuel & Petrochemical Manufacturers, American Public Gas Association, American Petroleum Institute, Liquid Energy Pipeline Association, Association of American Railroads, and American Short Line and Regional Railroad Association requested an extension of the deadline for submitting comments on the ANPRM. See Docket No. TSA-2022-0001-0002. In response to the requests by prospective commenters for additional time to adequately consider and respond to the ANPRM, TSA has determined that an extension of the comment period until February 1, 2023 is appropriate.

Dated: December 19, 2022.
Austin Gould,
Acting Executive Assistant Administrator, Operations Support.

[FR Doc. 2022-27917 Filed 12-22-22; 8:45 am]

BILLING CODE 9110-05-P